DEPARTMENT OF TRANSPORTATION

Federal Aviation Administration

Notice of Meeting

AGENCY: Federal Aviation Administration (FAA), DOT.

ACTION: Notice.

SUMMARY: The FAA is issuing this notice to advise the public of the date for the fifth meeting of the FAA Aircraft Repair and Maintenance Advisory Committee. The purpose of the meeting is for the Committee to continue working towards accomplishing the goals and objectives pursuant to its congressional mandate.

DATES: The meeting will now be held Tuesday, October 16, 2001, 9 a.m. to 4 p.m.

ADDRESSES: The meeting will be held at the Federal Aviation Administration, 800 Independence Avenue, SW., Bessie Coleman Conference Center, Washington, DC 20591, (202)-267-9952; fax (202) 267-5115; e-mail Ellen Bowie@faa.gov.

FOR FURTHER INFORMATION CONTACT: Ellen Bowie, Federal Aviation Administration (AFS-300), 800 Independence Avenue, SW., Washington, DC 20591; phone (202) 267-9952; fax (202) 267-5115; e-mail Ellen Bowie@faa.gov.

SUPPLEMENTARY INFORMATION: Pursuant to section 10(a)(2) of the Federal Advisory Committee Act (Pub. L. 92-463; 5 U.S.C. App. II), notice is hereby given of a meeting of the FAA Aircraft Repair and Maintenance Advisory Committee to be held on October 16, at the Federal Aviation Administration, 800 Independence SW., Washington, DC 20591.

The agenda will include:

• Introduction of any new designated alternate members.

• Committee administration.

• Reading and approval of minutes.

• Review of open/additional action items.

• Working group final draft report.

Oversight/Safety—Nelson Dewees

Balance of Trade—Sarah MacLeod

International Agreements—Susan Parson.

• Statements of members of the public.

• United States Trade Representative presentation.

• Review of Committee workscope vs. mandate.

• Review desire for Committee extension.

• Plan/discuss next steps/agenda and timeline.

• Closing remarks and adjournment

Attendance is open to the public but will be limited to the availability of meeting room space. Persons desiring to present a verbal statement must provide a written summary of remarks. Please focus your remarks on the tasks, specific activities, projects or goals of the Advisory Committee, and benefits to the aviation public. Speakers will be limited to 5-minute presentations. Please contact Ms. Ellen Bowie at the number listed above if you plan to attend the meeting or to present a verbal statement.

Individuals making verbal presentations at the meeting should bring 25 copies to give to the Committee's Executive Director. These copies may be provided to the audience at the discretion of the submitter.

Issued in Washington, DC, on October 10, 2001.
James J. Ballough,
Acting Manager, Continuous Airworthiness Maintenance Division.

[FR Doc. 01-25861 Filed 10-12-01; 8:45 am]

BILLING CODE 4910-13-M